DEPARTMENT OF AGRICULTURE

Forest Service

Deschutes Provincial Interagency Executive Committee (PIEC), Advisory Committee

AGENCY: Forest Service.

ACTION: Notice of Meeting.

SUMMARY: The Deschutes PIEC Advisory Committee will meet on February 22, 2001 at the Jefferson County Firehall located at the corner of Adam and “J” Street off of Highway 97 in Madras, Oregon. A business meeting will begin at 9 am and finish at 4:30 pm. Agenda items will include Legislation to Counties, Update on ICBEMP, Upper Deschutes Resource Management Plan, Monitoring Reports, Info Sharing and a Public Forum from 4 pm till 4:30 pm. All Deschutes Province Advisory Committee Meetings are open to the public.

FOR FURTHER INFORMATION CONTACT: Mollie Chaudet, Province Liaison, USDA, Bend-Ft. Rock Ranger District, 1230 N.E. 3rd., Bend, OR 97701, Phone (541) 416-6872.

Dated: February 12, 2001.
Leslie A.C. Weldon,
Deschutes National Forest Supervisor.

[FR Doc. 01-3989 Filed 2-15-01; 8:45 am]

BILLING CODE 3410-11-M